DEPARTMENT OF THE INTERIOR

Bureau of Land Management

[LLNVSO2000-L12320000-DA0000-LVRDNV010000 241A; 12-08807; MO# 4500033317; TAS: 14X5413]

Notice of Intent To Prepare a Resource Management Plan Amendment and Associated Environmental Assessment To Address Use of Permanent Fixed Anchors for BLM Wilderness in Red Rock Canyon National Conservation Area, Clark County, NV

AGENCY: Bureau of Land Management, Interior.

ACTION: Notice of Intent.

SUMMARY: In compliance with the National Environmental Policy Act of 1969, as amended, and the Federal Land Policy and Management Act of 1976, as amended, the Bureau of Land Management (BLM) Southern Nevada District, the BLM Red Rock/Sloan Field Office, Las Vegas, Nevada, intends to prepare a Resource Management Plan (RMP) amendment with an associated Environmental Assessment (EA) to consider new management decisions for permanent fixed anchors for recreational rock climbing within the BLM portions of the La Madre Mountain Wilderness and Rainbow Mountain Wilderness Areas for the Red Rock Canyon National Conservation Area. This notice marks the beginning of the scoping process to solicit input on issues and the proposed planning criteria.

DATES: This notice initiates a 45-day public scoping period for the RMP amendment with associated EA. Comments on issues may be submitted in writing until November 19, 2012. The date(s) and location(s) of any scoping meetings will be announced at least 15 days in advance through local media, newspapers, and the BLM Web site at: http://www.blm.gov/nv/st/en/fo/lvfo.html. In order to be included in the EA, all comments should be submitted prior to the close of the 45-day scoping period.

ADDRESSES: You may submit comments on issues and planning criteria related to the RMP amendment and associated EA for the Red Rock Canyon National Conservation Area by any of the following methods:

• Web site: http://www.blm.gov/nv/st/en/fo/lvfo.html.

• Email: rrc_fixedanchors@blm.gov.

• Fax: 702-363-6779, attention Nick Walendziak.

• Mail: 4701 N. Torrey Pines Dr., Las Vegas, NV 89130.

Documents pertinent to this proposal may be examined at the Red Rock/Sloan Field Office, 4701 N. Torrey Pines Dr., Las Vegas, Nevada.

FOR FURTHER INFORMATION CONTACT: For further information and/or to have your name added to our mailing list, contact Nick Walendziak, Outdoor Recreation Planner, Climbing Lead, telephone: 702-515-5358; address: 4701 N. Torrey Pines Dr., Las Vegas, NV 89130; email: nwalendziak@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is proposing to amend the Red Rock Canyon National Conservation Area RMP/Record of Decision signed in 2005, which set forth management decisions on the use of fixed anchors for the La Madre Mountain and Rainbow Mountain Wilderness Areas. At the time of that planning decision, these areas were Wilderness Study Areas (WSAs) governed by the 1995 Interim Management Policy (IMP) and Guidance for Lands Under Wilderness Review. There is a need to amend this RMP since these areas are now congressionally designated as wilderness and are no longer WSAs governed by the IMP.

The planning area is located in Clark County, Nevada, and encompasses approximately 48,340 acres of public land (28,115 acres within the La Madre Mountain Wilderness and 20,225 acres within the Rainbow Mountain Wilderness). The purpose of the public scoping process is to identify relevant issues for the environmental analysis, including alternatives, and to identify criteria to guide the planning process. Preliminary issues identified by the BLM and other stakeholders include:

• Protecting public health and safety

• Increasing demand for more recreation opportunities

• Addressing the appropriateness of fixed anchors in Wilderness

• Compliance with BLM Manual 6340, Management of Designated Wilderness Areas

• Proximity of wilderness areas to major urban interface

• Protection of cultural and sensitive species

• Protection of visual and scenic objectives

Planning criteria are constraints or ground rules that guide and direct the development of the RMP amendment. The criteria ensure that the RMP amendment is tailored to the identified issues while avoiding unnecessary data collection and analyses. The following criteria may be adjusted during the RMP amendment development based on management concerns and the results of the overall public scoping process:

• The RMP amendment assessment, analysis, and proposed decisions will focus on whether permanent fixed anchors should be considered for rock climbing within the designated Wilderness Areas.

• The RMP amendment process will comply with the BLM's policies in the Land Use Planning Handbook, H-1601, the National Environmental Policy Act Handbook H-1790-1, Manual 6340, Management of Designated Wilderness Areas and all other applicable laws, regulations, and policies.

• The RMP amendment will incorporate, where applicable, management decisions brought forward from existing planning documents.

• Geographic Information System (GIS) data and metadata will meet Federal Geographic Data Committee (FGDC) standards, as required by Executive Order 12906. All other applicable BLM data standards will be followed.

• Broad-based public participation and collaboration will be an integral part of the planning process. The BLM will work collaboratively with all interested groups, agencies, and individuals and consult with tribes.

• Planning and management direction will focus on resource values rather than the combination of uses that would give the greatest economic return or economic output.

• Where practicable, the best available science and information will be used.

The proposal to amend the RMP would only affect the BLM portions of the La Madre Mountain and Rainbow Mountain Wilderness Areas. Management decisions on fixed anchors on the U.S. Forest Service portions of these wilderness areas will be included in the ongoing joint BLM/U.S. Forest Service La Madre Mountain and Rainbow Mountain Wilderness Plan.

The public is also encouraged to help identify management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: wilderness, rangeland management, fire, minerals and geology, forestry, recreation, archaeology, paleontology, wildlife and fisheries, botany, lands and realty, hydrology, soils, sociology and economics.

You may submit comments on issues and planning criteria in writing to the BLM at any public scoping meeting, or you may submit them to the BLM using one of the methods listed in the ADDRESSES section above. To be most helpful, you should submit comments by the close of the 45-day scoping period. Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Mark Spencer,
Field Manager.

[FR Doc. 2012-24622 Filed 10-4-12; 8:45 am]

BILLING CODE 4310-HC-P